DEPARTMENT OF COMMERCE

International Trade Administration

[A-489-805]

Certain Pasta From Turkey: Notice of Rescission of Antidumping Duty Administrative Review

AGENCY: Import Administration, International Trade Administration, Department of Commerce.

ACTION: Notice of rescission of antidumping duty administrative review.

SUMMARY: In response to a request by the petitioners, New World Pasta Company, American Italian Pasta Company, and Dakota Growers Pasta Company (the Petitioners), the Department of Commerce (the Department) initiated an administrative review of the antidumping duty order on certain pasta (pasta) from Turkey for the period July 1, 2003, through June 30, 2004. For the reason discussed below, we are rescinding this administrative review.

EFFECTIVE DATE: October 8, 2004.

FOR FURTHER INFORMATION CONTACT: James Terpstra or Dennis McClure, Office 3, AD/CVD Operations, Import Administration, International Trade Administration, U.S. Department of Commerce, 14th Street and Constitution Avenue, NW., Washington, DC 20230; telephone: (202) 482-3965, or (202) 482-5973, respectively.

SUPPLEMENTARY INFORMATION:

Scope of Review

Imports covered by this review are shipments of certain non-egg dry pasta in packages of five pounds (2.27 kilograms) or less, whether or not enriched or fortified or containing milk or other optional ingredients such as chopped vegetables, vegetable purees, milk, gluten, diastases, vitamins, coloring and flavorings, and up to two percent egg white. The pasta covered by this scope is typically sold in the retail market, in fiberboard or cardboard cartons, or polyethylene or polypropylene bags of varying dimensions.

Excluded from the scope of this review are refrigerated, frozen, or canned pastas, as well as all forms of egg pasta, with the exception of non-egg dry pasta containing up to two percent egg white.

The merchandise subject to review is currently classifiable under item 1902.19.20 of the Harmonized Tariff Schedule of the United States (HTSUS). Although the HTSUS subheading is provided for convenience and customs purposes, the written description of the merchandise subject to the order is dispositive.

Background

On July 1, 2004, the Department published a notice of opportunity to request an administrative review of the antidumping duty order on certain pasta from Turkey. See Antidumping or Countervailing Duty Order, Finding, or Suspended Investigation; Opportunity to Request Administrative Review, 69 FR 39903 (July 1, 2004). On August 30, 2004, pursuant to a request made by the Petitioners, the Department initiated an administrative review of Tat Konserve, A.S. and Filiz Gida Sanayi ve Ticaret, A.S. under the antidumping duty order on certain pasta from Turkey. See Initiation of Antidumping and Countervailing Duty Administrative Reviews and Request for Revocation in Part, 69 FR 52857 (August 30, 2004). On September 21, 2004, the Petitioners timely withdrew their request for an administrative review of certain pasta from Turkey.

Rescission of Review

If a party that requested a review withdraws the request within 90 days of the date of publication of notice of initiation of the requested review, the Secretary will rescind the review pursuant to 19 CFR 351.213(d)(1). In this case, the Petitioners withdrew their request for an administrative review within 90 days from the date of initiation. No other interested party requested a review and we have received no comments regarding the Petitioner's withdrawal of their request for a review. Therefore, we are rescinding this review of the antidumping duty order on certain pasta from Turkey.

The Department will issue appropriate assessment instructions directly to U.S. Customs and Border Protection (CBP) within 15 days of the publication of this notice. The Department will direct CBP to assess antidumping duties for each company at the cash deposit rate in effect on the date of entry for entries during the period July 1, 2003, through June 30, 2004.

Notification to Importers

This notice serves as a final reminder to importers of their responsibility under 19 CFR 351.402(f) to file a certificate regarding the reimbursement of antidumping and countervailing duties prior to liquidation of the relevant entries during this review period. Failure to comply with this requirement could result in the Secretary's presumption that reimbursement of antidumping and countervailing duties occurred and the subsequent increase in antidumping duties by the amount of antidumping and countervailing duties reimbursed.

This notice also serves as a reminder to parties subject to administrative protective order (APO) of their responsibility concerning the disposition of proprietary information disclosed under APO in accordance with 19 CFR 351.305(a)(3). Timely written notification of the return/destruction of APO materials or conversion to judicial protective order is hereby requested. Failure to comply with the regulations and the terms of an APO is a sanctionable violation.

This notice is in accordance with section 777(i)(1) of the Act and 19 CFR 251.213(d)(4).

Dated: October 4, 2004.
Jeffrey A. May,
Deputy Assistant Secretary for Import Administration.

[FR Doc. E4-2557 Filed 10-7-04; 8:45 am]

BILLING CODE 3510-DS-P